DEPARTMENT OF THE TREASURY

Internal Revenue Service

Senior Executive Service Performance Review Board

AGENCY: Internal Revenue Service (IRS), Department of the Treasury.

ACTION: Notice.

SUMMARY: To announce a list of senior executives who comprise a standing roster that will serve on IRS's Fiscal Year 2024 Senior Executive Service (SES) Performance Review Boards.

DATES: This list is effective September 1, 2024.

FOR FURTHER INFORMATION CONTACT: Sharnetta A. Walton, Director, Office of Executive Services at (202) 317-3817 or Rachel Winningham, Deputy Director, Office of Executive Services at (801) 620-4488, IRS, 1111 Constitution Avenue NW, Washington, DC 20224.

SUPPLEMENTARY INFORMATION: Pursuant to 5 U.S.C. 4314(c)(4), this board shall review and evaluate the initial appraisals of career senior executives' performance and provide recommendations to the appointing authority on performance ratings, pay adjustments and performance awards. The senior executives are as follows:

Victor M. Aledo-Garcia

Todd A. Anthony

Elizabeth P. Askey

Scott A. Ballint

Michael T. Batdorf

Robert J. Bedoya

Jennifer L. Best

Orrin D. Byrd

Julia W. Caldwell

Tracey C. Carter

Andrea L. Chapman

Anthony S. Chavez

Robert Choi

James P. Clifford

Amalia C. Colbert

Erin M. Collins

Lucinda J. Comegys

Kenneth C. Corbin

Robert S. Cox

Joseph Dianto

Donald C. Drake

Sheila Eason

Randolph Edwards

Guy A. Ficco

James L. Fish

Sharyn M. Fisk

Caralee Garr

Gwen M. Garren

Teresa V. Givens

Barbara B. Gourley

Dietra D. Grant

Phyllis T. Grimes

Lisa J. Gyorda

Franklin A. Henderson

Keith A. Henley

John W. Hinman

Ronald H. Hodge

Carrie Y. Holland

Karen S. Howard

Teresa R. Hunter

Barry W. Johnson

Nikki C. Johnson

William H. Kea Jr

Lou Ann Y. Kelleher

Edward T. Killen

Emily M. Kornegay

Melanie R. Krause

Kathleen M. Kruchten

Stephen C. Lambourne

Jonathan D. Larsen

Daniel R. Lauer

Tracy L. Lee

Ronald J. Leidner Jr

Terry Lemons

Sofia Lofvenholm-Enggren

Deborah Lucas Trumbull

Robert W. Malone

Heather C. Maloy

Kevin Q. McIver

Priya B. Mhatre

Carolyn M. Morton

Bryan L. Musselman

Douglas W. O'Donnell

Victor G. Onorato

David A. Padrino

Deborah T. Palacheck

Kaschit D. Pandya

Holly O. Paz

Christopher J. Pleffner

Jonathan J. Rawlings

Scott D. Reisher

Julie A. Robbins

Bridget T. Roberts

Richard L. Rodriguez

Kimberly D. Rogers

Clifford R. Scherwinski

Frederick W. Schindler

Tracey L. Showman

Eric D. Slack

Tommy A. Smith

Kim S. Stewart

Fumino Tamaki

Richard L. Tierney

Guy A. Torres

Karen D. Truss

Rajiv K. Uppal

Alfredo Valdespino

Tiffany Y. Vertison-Cole

Scott Wallace

Kathleen E. Walters

Nicole L. Welch

Mike Wetklow

Darrell S. White

Lavena B. Williams

Maha H. Williams

Patrice C. Wilmot

Lisa S. Wilson

Nancy R. Wiltshire

Max R. Wyche

This document does not meet the Treasury's criteria for significant regulations.

Douglas W. O'Donnell,
Deputy Commissioner of Internal Revenue, Internal Revenue Service.

[FR Doc. 2024-17322 Filed 8-5-24; 8:45 am]

BILLING CODE P